NUCLEAR REGULATORY COMMISSION

[Docket No. 50-271; NRC-2010-0100]

Entergy Nuclear Operations, Inc; Vermont Yankee Nuclear Power Station Environmental Assessment and Finding of No Significant Impact

The U.S. Nuclear Regulatory Commission (NRC) is considering issuance of an exemption, pursuant to Title 10 of the Code of Federal Regulations (10 CFR) section 73.5, “Specific exemptions,” from the implementation date for certain new requirements of 10 CFR part 73, “Physical protection of plants and materials,” for Facility Operating License No. DPR-28, issued to Entergy Nuclear Operations, Inc. (Entergy or the licensee), for operation of Vermont Yankee Nuclear Power Station (Vermont Yankee), located in Windham County, Vermont. Therefore, as required by 10 CFR 51.21, the NRC prepared an environmental assessment documenting its finding. The NRC concluded that the proposed actions will have no significant impact.

Environmental Assessment

Identification of the Proposed Action

The proposed action would exempt Vermont Yankee from the required implementation date of March 31, 2010, for several new requirements of 10 CFR part 73. Specifically, Vermont Yankee would be granted an exemption from being in full compliance with certain new requirements contained in 10 CFR 73.55 by the March 31, 2010, deadline. Entergy has proposed an alternate full compliance implementation date of September 20, 2010, approximately 5½ months beyond the date required by 10 CFR part 73. The proposed action, an extension of the schedule for completion of certain actions required by the revised 10 CFR part 73, does not involve any physical changes to the reactor, fuel, plant structures, water, or land at the Vermont Yankee site.

The proposed action is in accordance with the licensee's application dated January 21, 2010, as supplemented by letter dated February 17, 2010.

The Need for the Proposed Action

The proposed action is needed to provide the licensee with additional time to perform the required upgrades to the Vermont Yankee security system due to resource and logistical impacts and other factors.

The licensee has requested a scheduler exemption to the compliance date identified in 10 CFR 73.55(a)(1) to implement the specific requirements stated in 10 CFR 73.55(e)(7)(i)(B) and 10 CFR 73.55(i)(4)(i) for Vermont Yankee. The request for an exemption from March 31, 2010, implementation date to September 20, 2010, is based on completion of installation as well as testing and training of security personnel on the new features. This exemption will provide Vermont Yankee sufficient time for installation, testing, and training activities to be completed, considering initial permit delays, inclement winter weather construction delays and procurement delays.

Environmental Impacts of the Proposed Action

The NRC has completed its environmental assessment of the proposed exemption. The staff has concluded that the proposed action to extend the implementation deadline would not significantly affect plant safety and would not have a significant adverse effect on the probability of an accident occurring.

The proposed action would not result in an increased radiological hazard beyond those previously analyzed in the environmental assessment and finding of no significant impact made by the Commission in promulgating its revisions to 10 CFR part 73 as discussed in a Federal Register notice dated March 27, 2009 (74 FR 13967). There will be no change to radioactive effluents that affect radiation exposures to plant workers and members of the public. Therefore, no changes or different types of radiological impacts are expected as a result of the proposed exemption.

The proposed action does not result in changes to land use or water use, or result in changes to the quality or quantity of non-radiological effluents. No changes to the National Pollution Discharge Elimination System permit are needed. No effects on the aquatic or terrestrial habitat in the vicinity of the plant, or to threatened, endangered, or protected species under the Endangered Species Act, or impacts to essential fish habitat covered by the Magnuson-Steven's Act are expected. There are no impacts to the air or ambient air quality. There are no impacts to historical and cultural resources. There would be no impact to socioeconomic resources. Therefore, no changes to or different types of non-radiological environmental impacts are expected as a result of the proposed exemption.

Accordingly, the NRC concludes that there are no significant environmental impacts associated with the proposed action. In addition, in promulgating its revisions to 10 CFR part 73, the Commission prepared an environmental assessment and published a finding of no significant impact [part 73, Power Reactor Security Requirements, 74 FR 13926, 13967 (March 27, 2009)].

With its request to extend the implementation deadline, the licensee has proposed compensatory measures to be taken in lieu of full compliance with the new requirements specified in 10 CFR part 73. The licensee currently maintains a security system acceptable to the NRC and the proposed compensatory measures will continue to provide acceptable physical protection of the Vermont Yankee in lieu of the new requirements in 10 CFR part 73. Therefore, the extension of the implementation date of the new requirements of 10 CFR part 73 to September 20, 2010, would not have any significant environmental impacts.

The NRC staff 's safety evaluation will be provided in the exemption that will be issued as part of the letter to the licensee approving the exemption to the regulation, if granted.

Environmental Impacts of the Alternatives to the Proposed Action

As an alternative to the proposed action, the NRC staff considered denial of the proposed action (i.e., the “no-action” alternative). Denial of the application would result in no change in current environmental impacts. If the proposed action was denied, the licensee would have to comply with the March 31, 2010, implementation deadline. The environmental impacts of the proposed action and the alternative action are similar.

Alternative Use of Resources

The action does not involve the use of any different resources than those previously considered in the Final Environmental Statement for Vermont Yankee Nuclear Power Station, Docket No. 50-271, dated July 1972, as supplemented through the “Generic Environmental Impact Statement for License Renewal of Nuclear Plants: Regarding Vermont Yankee Nuclear Power Station,” published in August 2007. Final Report (NUREG—1437, Supplement 30).”

Agencies and Persons Consulted

In accordance with its stated policy, on February 24, 2010, the NRC staff consulted with the Vermont State official of the Vermont Department of Public Service regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated January 21, 2010, as supplemented by letter dated February 17, 2010. Portions of the submittal dated January 21, 2010, as supplemented by letter dated February 17, 2010, contain security related sensitive information and, accordingly, are withheld from public disclosure in accordance with 10 CFR 2.390. Publicly available versions of this document are accessible electronically from the Agencywide Documents Access and Management System (ADAMS) with Accession Nos. ML100270294 and ML100100541743, respectively.

Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr@nrc.gov.

Dated at Rockville, Maryland, this 8th the day of March 2010.
For the Nuclear Regulatory Commission.
James Kim,
Project Manager, Plant Licensing Branch I-1, Division of Operating Reactor Licensing, Office of Nuclear Reactor Regulation.

[FR Doc. 2010-5562 Filed 3-12-10; 8:45 am]

BILLING CODE 7590-01-P